DEPARTMENT OF TRANSPORTATION

Federal Aviation Administration

Notice of Intent To Request Renewal From the Office of Management and Budget (OMB) of Two Current Public Collections of Information

AGENCY: Federal Aviation Administration (FAA), DOT.

ACTION: Notice.

SUMMARY: In compliance with the Paperwork Reduction Act (44 U.S.C. 3501 et seq.), the FAA invites public comment on two currently approved public information collections which will be submitted to OMB for renewal.

DATES: Comments must be received on or before August 22, 2005.

ADDRESSES: Comments may be mailed or delivered to the FAA at the following address: Ms. Judy Street, Room 613, Federal Aviation Administration, Information Systems and Technology Services Staff, ABA-20, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0648: Certification: Airmen Other Than Flight Crewmembers—Part 65; Aircraft Dispatches—Subpart C; and Aircraft Dispatcher Courses—Appendix A. The respondents to this information collection will be FAR Part 135 and Part 121 operators. The FAA will use the information to ensure compliance and adherence to the regulations. The current estimated annual reporting burden is 4,679 hours.

2. 2120-0649: Financial Responsibility Requirements for Licensed Reentry Activities. Information to be collected supports FAA in determining the amount of required liability insurance for a reentry operator after examining the risk associated with a reentry vehicle, its operational capabilities, and its designated reentry site. The current estimated annual reporting burden is 1,305 hours.

Issued in Washington, DC, on June 9, 2005.
Judith D. Street,
FAA Information Systems & Technology Services Staff, ABA-20.

[FR Doc. 05-12124 Filed 6-21-05; 8:45 am]

BILLING CODE 4910-13-M